DEPARTMENT OF DEFENSE

Department of the Army

Expeditionary Technology Search (xTechSearch) Prize Competition Announcement

AGENCY: Department of the Army, DoD.

ACTION: Announcement of competition.

SUMMARY: Under the provisions of applicable laws and regulations, the Assistant Secretary of the Army for Acquisition, Logistics and Technology (ASA(ALT)) is announcing the Army Expeditionary Technology Search—xTechSearch Prize Competition—for the Army to enhance engagements with the entrepreneurial funded community, small businesses, and other non-traditional defense partners. The xTechSearch program will provide an opportunity for businesses to pitch novel technology solutions, either a new application for an existing technology or an entirely new technology concept, to the Army.

DATES:

1. July 11, 2018. Deadline for submission of White Paper with xTechSearch Cover Letter registration form.

2. July 30-August 31, 2018. Semifinalists—Up to 125 participants brief xTechSearch panels.

3. October 8-10, 2018. Up to 25 finalists featured at the Association of the United States Army Annual Meeting and Exposition in Washington, DC.

4. April 2019. Capstone Demonstration with Senior Army Leadership.

ADDRESSES: Proposal submissions should be emailed to usarmy.pentagon.hqda-asa-alt.mbx.xtechsearch@mail.mil no later than 11 July 2018. Detailed information can be found at Challenge.gov: https://www.challenge.gov/challenge/army-expeditionary-technology-search-xtechsearch/

FOR FURTHER INFORMATION CONTACT: Ms. Jennifer Smith, Deputy Director for Laboratory Management ASA(ALT) Office of the Deputy Assistant Secretary of the Army, Research and Technology, (703) 697-0685.

SUPPLEMENTARY INFORMATION: Eligibility: The entities allowed to participate in this competition are small businesses as defined in 13 CFR part 121. To qualify, the participating entity must fall within the size standard by North American Industry Classification System code 541713, 541714, and 541715.

There may be only one submission per business. In addition, each entity:

• Shall provide registration information in the xTechSearch Cover Letter registration form;

• Shall be incorporated in and maintain a primary place of business in the United States;

• Shall perform the work in the United States.

• May not be a Federal entity or Federal employee acting within the scope of their employment.

Registered participants shall be required to agree to assume any and all risks and waive claims against the Federal Government and its related entities, except in the case of willful misconduct, for any injury, death, damage, or loss of property, revenue, or profits, whether direct, indirect, or consequential, arising from their participation in a prize competition, whether the injury, death, damage, or loss arises through negligence or otherwise.

Participants shall be required to obtain liability insurance or demonstrate financial responsibility, in amounts determined by the Army, for claims by—

• Third parties for death, bodily injury, or property damage, or loss resulting from an activity carried out in connection with participation in a prize competition, with the Federal Government named as an additional insured under the registered participant's insurance policy and registered participants agreeing to indemnify the Federal Government against third party claims for damages arising from or related to prize competition activities; and

• Federal Government for damage or loss to Government property resulting from such an activity.

Prizes will be offered under 15 U.S.C. Section 3719 (Prize competitions).

• The total prize pool is $1.95M.

Evaluation Criteria and Process

Phase I: Concept White Paper Contest

• All interested eligible contestants will submit a xTechSearch Cover Letter registration form with a White Paper, of no greater than 1000 words, describing the novel technology concept, innovative application concept, and integration with the Army's modernization priorities and outlining their knowledge, skills, capabilities, and approach for this challenge. Contestants' concept papers will be reviewed by a panel of subject matter experts and judges who will select semifinalists who will be awarded a prize of $1000 and be invited to the Phase II xTechSearch Technology Pitch Forums.

• Concept White Papers will be ranked based on the novelty of the proposed technology to revolutionizing and modernizing the Army. Each white paper must include the following:

○ Proposed Army Modernization Priority alignment,

○ Proposed concept and current technology maturity,

• Concept White Paper Scoring Criteria:

○ Potential for Impact/Revolutionizing the Army—50%

○ Scientific and Engineering Viability—30%

○ Team Experience and Abilities—20%

Phase II: xTechSearch Technology Pitches

• Up to one hundred twenty five (125) selected contestant semi-finalists will be invited to complete an in-person Technology pitch to a panel of Army and Department of Defense subject matter experts and judges at one of five selected locations across the United States.

• xTechSearch Technology Pitches will be ranked based on the novelty of the proposed technology to revolutionizing and modernizing the Army. Finalists will be selected based on the propensity of the technology to revolutionize Army missions, solve an Army capability gap, and catalyze with Army assets. Each technology pitch must include a proposal to demonstrate proof-of-concept for the technologies within 6 months.

• Up to twenty-five (25) finalists selected by the judge panel will receive a prize of $5000 and be invited to display an exhibit and make a formal public oral presentation of their proposal at the 2018 AUSA Annual Meeting Innovators' Corner in Washington, DC.

• Scoring Criteria:

○ Potential for Impact/Revolutionizing the Army—50%

○ Scientific and Engineering Viability; Proof-of-Concept Demonstration Plan—30%

○ Team Experience and Abilities—20%

Phase III: AUSA Innovators' Corner

• Up to twenty-five (25) xTechSearch finalists will be featured at Innovators' Corner at the 2018 AUSA Annual Meeting and Exposition, 8-10 October 2018 in Washington, DC.

• Finalists will provide a display and a presentation on their submission in an Army-sponsored exhibit space and engage with Department of Defense (DoD) customers, industry partners, and academia.

• Up to twelve (12) Phase III prize winners will be announced, four (4) each day. Phase III prize winners will be awarded prizes of $125,000 and 6 months to demonstrate proof-of-concept for their xTechSearch technology, to be demonstrated at an xTechSearch Finale Demonstration.

Phase IV: xTechSearch Finale Demonstration—April 2019

• Each Phase III winner will demonstrate proof-of-concept for their technology solution to senior DoD, Government, and industry leadership. The winner of the Finale Demonstration will be awarded a prize of $200,000.

Authority: 15 U.S.C. Section 3719; Pub. L. 96-480, Section 24, as added Pub. L. 111-358, title I, Section 105a, Jan. 4, 2011 Stat. 3989

Brenda S. Bowen,
Army Federal Register Liaison Officer.

[FR Doc. 2018-13669 Filed 6-25-18; 8:45 am]

BILLING CODE 5001-03-P